DEPARTMENT OF TRANSPORTATION

Federal Highway Administration

Environmental Impact Statement: Bannock County, Idaho

AGENCY: Federal Highway Administration (FHWA), DOT.

ACTION: Notice of intent.

SUMMARY: The FHWA is issuing this notice to advise the public that an Environmental Impact Statement (EIS) will be prepared for a proposed highway project in Bannock County, Idaho.

FOR FURTHER INFORMATION CONTACT: Mr. Edwin B. Johnson, Field Operations Engineer, Federal Highway Administration, 3050 Lakeharbor Lane, Suite 126, Boise, Idaho, 83703, Telephone: (208) 334-9180, ext. 116, or Mr. Dennis Clark, Environmental Section Manager, Headquarters, Idaho Transportation Department, P.O. Box 7129 Boise, Idaho 83707-1129, Telephone: (208) 334-8203.

SUPPLEMENTARY INFORMATION: The FHWA, in cooperation with the Idaho Transportation Department (ITD), will prepare an Environmental Impact Statement (EIS) for a proposal to provide a new access point along Interstate 15 (I-15) in Bannock County, Idaho. The proposed new access point project area is located between the existing I-86 system interchange (approximate location Mile Post (MP) 72.0), and terminating to the north at approximate MP 75.5 along I-15.

The purpose of this project is to locate a new service type access point to I-15, north of the existing I-86/I-15 system interchange in the Pocatello/Chubbuck metropolitan area located in Bannock County. Rapid residential growth in the northeastern bench and in the northern Chubbuck areas coupled with future commercial development has and will continue to create congestion and safety concerns at the existing interstate access points at the I-86/US 91 Chubbuck Interchange and at the I-15/Pocatello Creek Road Interchange, creating the need for this project.

This project will enhance access and cross-freeway mobility, improve traffic operations within the corridor, and provide safe and efficient movement of people, goods and services while giving full consideration to local roads as primary transportation corridors. This project is needed because congestion and safety concerns are rising within the project corridor and travel times for local and through traffic have increased. These conditions have arisen from increased and projected regional travel demand due to planned community growth, limited local city street connectivity to and across I-15, and mobility limitations at existing interchanges.

Seven enhancement concepts are under consideration, including: (a) Taking a no-build action, (b) applying enhanced Transportation Systems and Transportation Demand Management methods to the existing local roads, (c) constructing one of five build action options which include: a new service interchange near the 2-1/2 mile overpass; a new service interchange connecting with Tyhee Road; a new interchange connection with Siphon Road; and two different new interchange options at the existing Chubbuck Road Overpass.

Letters describing the proposed action and soliciting comments and input will be sent to appropriate Federal, State, and local agencies, and to private organizations and citizens. A series of public meetings will be held in the Chubbuck/Pocatello area. A scoping meeting and a public hearing will be held. Public notice will be given of the time and place of the meetings and hearing. The draft EIS will be made available for both public and agency review and comment prior to the public hearing.

To ensure that the full range of issues related to this proposed action are addressed and all significant issues identified, comments and suggestions are invited from all interested parties. Comments or questions concerning this proposed action and the EIS should be directed to the FHWA or ITD at the address provided above.

(Catalog of Federal Domestic Assistance Program Number 20.205, Highway Research, Planning and Construction. The regulations implementing Executive Order 12372 regarding intergovernmental consultation on Federal programs and activities apply to the program.)

Authority: 23 U.S.C. 315; 23 CFR 771.123; 49 CFR 1.48.

Issued on April 25, 2006.
Stephen A. Moreno,
Division Administrator, Boise, Idaho.

[FR Doc. 06-4130 Filed 5-2-06; 8:45 am]

BILLING CODE 4910-22-M